SECURITIES AND EXCHANGE COMMISSION

Sunshine Act Meetings

TIME AND DATE: Notice is hereby given, pursuant to the provisions of the Government in the Sunshine Act, Public Law 94-409, that the Securities and Exchange Commission Fixed Income Market Structure Advisory Committee (“FIMSAC”) will hold a public meeting on Monday, November 4, 2019 at 9:00 a.m.

PLACE: The meeting will be held in Room 443 at the Commission's New York Regional Office, 200 Vesey Street, New York, NY 10281.

STATUS: The meeting will begin at 9:00 a.m. and will be open to the public. Members of the public that wish to attend the meeting in person must complete the registration form on the FIMSAC's web page at https://www.sec.gov/spotlight/fixed-income-advisory-committee by October 30, 2019. Doors will open at 8:30 a.m. Visitors will be subject to security checks. The meeting will be webcast on the Commission's website at www.sec.gov.

MATTERS TO BE CONSIDERED: On October 9, 2019, the Commission published notice of the Committee meeting (Release No. 34-87260), indicating that the meeting is open to the public and inviting the public to submit written comments to the Committee. This Sunshine Act notice is being issued because a majority of the Commission may attend the meeting.

The agenda for the meeting will include updates and presentations from the FIMSAC subcommittees and discussions on secondary market trading in government securities and the transition away from LIBOR.

CONTACT PERSON FOR MORE INFORMATION: For further information, please contact Vanessa A. Countryman from the Office of the Secretary at (202) 551-5400.

Dated: October 28, 2019.
Vanessa A. Countryman,
Secretary.

[FR Doc. 2019-23773 Filed 10-28-19; 4:15 pm]

BILLING CODE 8011-01-P